ENVIRONMENTAL PROTECTION AGENCY

[ER-FRL-9045-6]

Environmental Impact Statements; Notice of Availability

Responsible Agency: Office of Federal Activities, General Information 202-564-5632 or https://www.epa.gov/nepa/.

Weekly receipt of Environmental Impact Statements

Filed 06/24/2019 Through 06/28/2019

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190147, Final, NRCS, NAT, Adoption—Feral Swine Damage Management: A National Approach, Review Period Ends: 08/05/2019, Contact: Nell Fuller 202-720-6303. The Natural Resource Conservation Service (NRCS) has adopted the Animal and Plant Health Inspection Service (APHIS) Final EIS No. 20150165, filed 06/05/2015 with the EPA. NRCS was not a cooperating agency on this project. Therefore, recirculation of the document is necessary under Section 1506.3(b) of the CEQ Regulations.

EIS No. 20190148, Final, NPS, FL, Gulf Islands National Seashore Final Personal Watercraft Plan, Review Period Ends: 08/05/2019, Contact: Dan Brown 850-934-2613

EIS No. 20190149, Final, OSM, UT, Adoption—Alton Coal Tract Lease by Application, Contact: Gretchen Pinkham 303-293-5088. The Office of Surface Mining Reclamation and Enforcement (OSMRE) has adopted the U.S. Bureau of Land Management. Final EIS No. 20180160, filed 07/12/2018 with the EPA. OSMRE was a cooperating agency on the project and recirculation of the document is not necessary under Section 1506.3(c) of the CEQ Regulations.

EIS No. 20190150, Draft, USFS, OR, Bear Creek Cluster Allotment Management Plans, Comment Period Ends: 08/19/2019, Contact: Beth Peer 541-416-6463

EIS No. 20190151, Final Supplement, USN, HI, Surveillance Towed Array Sensor System Low Frequency Active (SURTASS LFA) Sonar, Review Period Ends: 08/05/2019, Contact: Ronald Carmichael 703-695-5269

EIS No. 20190152, Final, BLM, OR, Adoption—Swan Lake North Pumped Storage Project, Review Period Ends: 08/05/2019, Contact: Terry Austin 541-885-4142. The U.S. Bureau of Land Management (BLM) has adopted the Federal Energy Regulatory Commission (FERC) Final EIS No. 20180333, filed 01/25/2019 with the EPA. BLM was not a cooperating agency on this project. Therefore, recirculation of the document is necessary under Section 1506.3(b) of the CEQ Regulations.

EIS No. 20190153, Final, TVA, TN, 2019 Integrated Resource Plan Final Environmental Impact Statement, Review Period Ends: 08/05/2019, Contact: Matthew Higdon 865-632-8051

EIS No. 20190154, Draft, FERC, AK, Alaska LNG Project-Draft Environmental Impact Statement, Comment Period Ends: 08/19/2019, Contact: Office of External Affairs 866-208-3372

EIS No. 20190155, Revised Draft, USACE, FL, Lake Okeechobee Watershed Restoration Project Revised Draft Integrated Project Implementation Report and Environmental Impact Statement, Comment Period Ends: 08/19/2019, Contact: Dr. Gretchen Ehlinger 904-232-1682

EIS No. 20190156, Final, VA, CA, Adoption—Westside Subway Extension Transit Corridor Project Extension of the Existing Metro Purple Line and Metro Red Line Heavy Rail Subway Los Angeles County Metropolitan Transportation Authority Los Angeles County CA, Review Period Ends: 08/05/2019, Contact: Glenn Elliott 202-632-5879. The U.S. Department of Veterans Affairs (VA) has adopted the Federal Transit Administration Final EIS No. 20120072, filed 03/15/2012 with the EPA. The VA was not a cooperating agency on this project. Therefore, recirculation of the document is necessary under Section 1506.3(b) of the CEQ Regulations.

EIS No. 20190157, Final Supplement, VA, CA, Adoption—Westside Purple Line Extension Section 4(f) Evaluation, Review Period Ends: 08/05/2019, Contact: Glenn Elliott 202-632-5879. The U.S. Department of Veterans Affairs (VA) has adopted the Federal Transit Administration Final EIS No. 20170235, filed 11/24/2017 with the EPA. The VA was not a cooperating agency on this project. Therefore, recirculation of the document is necessary under Section 1506.3(b) of the CEQ Regulations.

Amended Notice

EIS No. 20170161, Draft, USFS, MT, Withdrawn—Kootenai Forest-Wide Young Growth Vegetation Management Project, Contact: Quinn Carver 406-283-7695. Revision to FR Notice Published 08/25/2017; Officially Withdrawn per request of the submitting agency.

Dated: July 1, 2019.
Robert Tomiak,
Director, Office of Federal Activities.

[FR Doc. 2019-14323 Filed 7-3-19; 8:45 am]

BILLING CODE 6560-50-P